DEPARTMENT OF THE TREASURY

Submission for OMB Review; Comment Request

June 26, 2002.

The Department of the Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 2110, 1425 New York Avenue, NW., Washington, DC 20220.

DATES: Written comments should be received on or before August 2, 2002 to be assured of consideration.

Internal Revenue Service (IRS)

OMB Number: 1545-0001.

Form Number: IRS Form CT-1.

Type of Review: Revision.

Title: Employer's Annual Railroad Retirement Tax Return.

Description: Railroad employers are required to file an annual return to report employer and employee Railroad Retirement Tax Act (RRTA). Form CT-1 is used for this purpose. IRS uses the information to insure that the employer has paid the correct tax.

Respondents: Business or other for-profit, not-for-profit institutions, State, Local or Tribal Government.

Estimated Number of Respondents/Recordkeepers: 2,387.

Estimated Burden Hours Per Respondent/Recordkeeper:

| CT-1 (Part 1) | CT-1 (Part II)
Recordkeeping | 9 hr., 34 min | 4 hr., 4 min.
Learning about the law or the form | 2 hr., 1 min | 0 min.
Preparing, copying, assembling, and sending the form to the IRS | 4 hr., 39 min | 4 min.

Frequency of Response: Annually.

Estimated Total Reporting/Recordkeeping Burden: 46,206 hours.

OMB Number: 1545-0795.

Form Number: IRS Form 8233.

Type of Review: Extension.

Title: Exemption From Withholding on Compensation for Independent (and Certain Dependent) Personal Services of a Nonresident Alien Individual.

Description: Compensation paid to a nonresident alien (NRA) individual for independent personal services (self-employment) is generally subject to 30% withholding or graduated rates. However, compensation may be exempt from withholding because of a U.S. tax treaty or personal exemption amount. Form 8233 is used to request exemption from withholding.

Respondents: Individuals or households, business or other for-profit, not-for-profit institutions.

Estimated Number of Respondents/Recordkeepers: 480,000.

Estimated Burden Hours Per Respondent/Recordkeeper:

Recordkeeping—1 hr., 5 min.

Learning about the law or the form—31 min.

Preparing and sending the form to the IRS—57 min.

Frequency of Response: Annually.

Estimated Total Reporting/Recordkeeping Burden: 1,320,000 hours.

Clearance Officer: Glenn Kirkland, (202) 622-3428, Internal Revenue Service, Room 6411-03, 1111 Constitution Avenue, NW., Washington, DC 20224.

OMB Reviewer: Joseph F. Lackey, Jr., (202) 395-7316, Office of Management and Budget, Room 10235, New Executive Office Building, Washington, DC 20503.

Mary A. Able,
Departmental Reports Management Officer.

[FR Doc. 02-16722 Filed 7-2-02; 8:45 am]

BILLING CODE 4830-01-P